DEPARTMENT OF HOUSING AND URBAN DEVELOPMENT

[Docket No. FR-5130-N-18]

Privacy Act; Proposed Amendment to a Privacy Act System of Records, Single Family Mortgage Notes System (SFMNS, A80N)

AGENCY: Office of the Chief Information Officer, HUD.

ACTION: Privacy Act System of Records Amendment.

SUMMARY: Pursuant to the provisions of the Privacy Act of 1974 (5 U.S.C. 552a), HUD is amending one of its Privacy Act record systems, the Single Family Mortgage Notes System (SFMNS (HUD/HS-57)) notice published in the Federal Register on (72 FR 42102-03), to include a new routine. The routine use will permit the disclosure of data that's manually transmitted from SFMNS to HUD's Credit Alert Interactive Verification Response System (CAIVRS). CAIVRS makes federal debtor's delinquency and claim information available to program agencies and approved lenders to verify the creditworthiness of loan applicants.

DATES: Effective Date: This action shall be effective without further notice on February 15, 2008 unless comments are received during or before this period that would result in a contrary determination.

Comments Due Date: February 15, 2008.

ADDRESSES: Interested persons are invited to submit comments regarding this notice to the Rules Docket Clerk, Office of General Counsel, Department of Housing and Urban Development, 451 Seventh Street, SW., Room 10276, Washington DC 20410-0500. Communications should refer to the above docket number and title. A copy of each communication submitted will be available for public inspection and copying between 8 a.m. and 5 p.m. weekdays at the above address.

FOR FURTHER INFORMATION CONTACT: The Departmental Privacy Act Officer, 451 Seventh Street, SW., Room 4178, Washington, DC 20410, telephone number(202)708-2374 or the System Owner, 451 Seventh Street, SW., Room 6232, Washington, DC 20410, telephone number (202) 402-3297. (These are not a toll-free numbers.) Telecommuni-cation device for hearing and speech-impaired individuals (TTY) is available at (800) 877-8339 (Federal Information Relay Service).

SUPPLEMENTARY INFORMATION: Title 5 U.S.C. 552a(e)(4) and (11) provide that the public be afforded a 30-day period in which to comment on the new system of records, and require published notice of the existence and character of the system of records.

The new system report was submitted to the Office of Management and Budget (OMB), the Senate Committee on Homeland Security and Governmental Affairs, and the House Committee on Oversight and Government Reform pursuant to paragraph 4c of Appendix 1 to OMB Circular No. A-130, “Federal Agencies Responsibilities for Maintaining Records About Individuals,” July 25, 1994 (59 FR 37914).

Authority: 5 U.S.C. 552a, 88 Stat. 1896: 42 U.S.C. 3535(d).

Dated: December 31, 2007.
Walter Harris,
Acting Chief Information Officer.

HUD/HS-57

System Name:

Single Family Mortgage Notes System (SFMNS) (A80N/NOTES).

System Location:

Charleston, West Virginia. System software is loaded on computers in HUD Headquarters, Washington, DC, the National Servicing Center, Tulsa, OK, and the Servicing Contractors, C&L Service/Morris-Griffin Corporation, located in Tulsa, OK who access by VPN access.

Categories of individuals covered by the system:

Mortgagors (Secretary-Held Notes and Subordinate Mortgages).

Categories of records in the System:

Mortgagors' name, address, and social security number.

Authority for maintenance of the system:

Sec. 113 of the Budget and Accounting Act of 1950, 31 U.S.C. 66a. (Pub. L. 81-784).

Purposes:

The information is used to track the mortgagors' remittances and the system's disbursements for protecting HUD's interest in the mortgaged properties. This information is used by HUD to report to the IRS. The system contains information about monthly billing, disbursements, monthly payment applications, and interest and principal data.

Routine uses of records maintained in the system, including categories of users and the purposes of such uses:

In addition to those disclosures generally permitted under 5 U.S.C. 552a(b) of the Privacy Act, other routine uses are as follows:

(a) To the U.S. Treasury—for disbursements and adjustments; and

(b) To the Internal Revenue Service for reporting of: Payments for mortgage interest; discharge indebtedness; and real estate taxes.

(c) To CAIVRS—Records may be manually keyed into CAIVRS (Credit Alert Interactive Verification Reporting System) which is a HUD-sponsored database that makes a federal debtor's delinquency and claim information available to federal lending and assistance agencies and private lenders who issue federally insured or guaranteed loans for the purpose of evaluating a loan applicant's creditworthiness.

Policies and practices for storing, retrieving, accessing, retaining, and disposing of records in the system:

Storage:

Electronic files are stored on disc and backup files are stored on tape. The original documents (hard copy) are stored in Tulsa, Oklahoma.

Retrievability:

Records are retrieved by mortgagor name and/or social security number.

Safeguards:

Records are stored in locked cabinets in rooms to which access is limited to those personnel who service the records. Background screening, limited authorizations and access, with access limited to authorized personnel; technical restraints employed with regard to accessing the records; and access to automated systems by authorized users with passwords.

Retention and disposal:

Are in accordance with HUD Records Disposition Schedule 2225.6, Appendix 20.

System manager(s) and address:

Director, Single Family Post Insurance Division (System Owner), Department of Housing and Urban Development, 451 Seventh Street, SW., Room 6232, Washington, DC 20410.

Notification procedure:

For information, assistance, or inquiry about existence of records, contact the Privacy Act Officer, 451 Seventh Street, SW., Room 4178, Washington, DC 20410, in accordance with the procedures in 24 CFR part 16.

Record access procedures:

The Department's rules for providing access to records to the individual concerned appear in 24 CFR part 16. If additional information or assistance is required, contact the Privacy Act Officer at HUD, 451 Seventh Street, SW., Room 4178, Washington, DC 20410.

Contesting record procedures:

The procedures for requesting amendment or correction of records appear in 24 CFR part 16. If additional information is needed, contact:

(i) In relation to contesting contents of records, the Privacy Act Officer at HUD, 451 Seventh Street, SW., Room 4178, Washington, DC 20410; and,

(ii) In relation to appeals of initial denials, HUD, Departmental Privacy Appeals Officer, Office of General Counsel, 451 Seventh Street, SW., Washington, DC 20410.

Record source categories:

The original information was transferred from the A43C System; new records are established using the legal instruments (i.e., mortgage, deed, subordinate mortgage, etc.) received from the mortgagees.

Exemptions from certain provisions of the Act:

None.

[FR Doc. E8-603 Filed 1-15-08; 8:45 am]

BILLING CODE 4210-67-P